DEPARTMENT OF COMMERCE

Census Bureau

Agency Information Collection Activities; Submission to the Office of Management and Budget (OMB) for Review and Approval; Comment Request; Decennial Census Temporary, Intermittent Applicant Information Collection

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 6, 2024, during a 60-day comment period. This notice allows for an additional 30 days for public comments.

Agency: U.S. Census Bureau, Department of Commerce.

Title: Decennial Census Temporary, Intermittent Applicant Information Collection.

OMB Control Number: 0607-XXXX.

Form Number(s): None.

Type of Request: Regular submission, New Information Collection Request.

Number of Respondents: 11,970 job applicants, with an estimated 7,358 becoming job candidates.

Average Hours per Response: Job applicants = .61 hours and job candidates = .19 hours.

Burden Hours: 8,731.

Needs and Uses: The Census Bureau is implementing an electronic Decennial Census Temporary, Intermittent Applicant Information Collection to gather information from job seekers needed to fill temporary, intermittent Decennial Census Program positions, starting with the 2026 Census Test. Questions used to qualify and select applicants for positions are in the job application information section of the collection. This section collects Social Security numbers, date of birth, contact information, citizenship status, selective service and veterans' preference status and documentation, Federal employment/annuity status, access to transportation, hours of availability and related job experience. The supplemental voluntary applicant information section includes questions found on the Equal Employment Opportunity Commission's (EEOC's) common use form 3046-0046, Demographic Information on Applicants for Federal Employment, developed to support EEOC Management Directive 715. The voluntary questions also include recruiting sources and education questions to help improve future recruiting efforts.

This collection gathers basic information needed for all temporary, intermittent decennial positions, streamlining the application process for both the applicant and the Census Bureau, by allowing applicants to be considered for several positions with one set of application data. To further evaluate each applicant's fit for positions, as part of the Decennial Census Temporary, Intermittent Applicant Information Collection, applicants will answer position related assessment/test and self-response interview questions.

The Census Bureau discontinued a similar collection for the Current Surveys, Special Census, and Decennial Census Programs under OMB No. 0607-0139.

Affected Public: Persons interested in working on decennial census operations/activities.

Frequency: One response is needed from each interested applicant or candidate. If an applicant becomes a candidate for more than one position, one response is needed for each position, any questions previously answered will just need verification.

Respondent's Obligation: Voluntary.

Legal Authority: Title 13, U.S.C, Chapter 1, Subchapter II, Section 23(a) and 23(c); Title 5 U.S.C., Part II Chapter 13; Title 5, U.S.C., Part III, Subpart B, Chapter 33, Subchapter I; Executive Order 9397; Executive Order 10566; Section 501 of the Rehabilitation Act of 1973; Title 5 U.S.C. Part III, Subpart F, Chapter 72, Subchapter I, Section 7201; 29 CFR part 1607.4, Uniform Guidelines on Employee Selection Procedures.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Compliance Officer, Office of the Under Secretary for Economic Affairs, Commerce Department.

[FR Doc. 2025-13991 Filed 7-23-25; 8:45 am]

BILLING CODE 3510-07-P